DEPARTMENT OF LABOR

Employment and Training Administration

[TA-W-72,259]

Dupont Teijin Films Including On-Site Leased Workers From Schenkers Logistics, Inc., Florence, SC; Amended Certification Regarding Eligibility To Apply for Worker Adjustment Assistance

In accordance with Section 223 of the Trade Act of 1974, as amended (“Act”), 19 U.S.C. 2273, the Department of Labor issued a Certification of Eligibility to Apply for Worker Adjustment Assistance on September 22, 2009, applicable to workers of DuPont Teijin Films, including on-site leased workers from Schenkers Logistics, Inc., Florence, South Carolina (subject firm). The Department's notice was published in the Federal Register on November 17, 2009 (74 FR 59255). Workers are engaged in employment related to the production of polyester (PET) film.

On our own motion, the Department reviewed the certification applicable to the workers of the subject firm.

The Department's review shows that the subject firm was publicly identified by name by the International Trade Commission in an investigation resulting in a category of determination that is listed in Section 222(f) of the Act, 19 U.S.C. 2272(f). That determination was published in the Federal Register on November 6, 2008 and is within one year of the date of the TAA petition. Therefore, the Department is amending the impact date to read November 6, 2007 and the expiration date to read November 6, 2009.

The amended notice applicable to TA-W-72,259 is hereby issued as follows:

All workers of DuPont Teijin Films, including on-site leased workers of Schenkers Logistics, Inc., Florence, South Carolina, who became totally or partially separated from employment on or after November 6, 2007, through November 6, 2009, are eligible to apply for adjustment assistance under Chapter 2 of Title II of the Trade Act of 1974, as amended.

Signed in Washington, DC, this 30th day of August, 2010.
Del Min Amy Chen,
Certifying Officer, Office of Trade Adjustment Assistance.

[FR Doc. 2010-22720 Filed 9-10-10; 8:45 am]

BILLING CODE 4510-FN-P